DEPARTMENT OF THE INTERIOR

Bureau of Land Management

[ES-960-1910-BJ] ES-053598, Group 22, Maine]

Notice of Filing of Plat of Survey; Maine

AGENCY: Bureau of Land Management.

ACTION: Notice of filing of plat of survey, Maine; correction.

SUMMARY: The Bureau of Land Management published a notice in the Federal Register concerning the filing of a plat of survey. The notice contained an incorrect meridian description.

FOR FURTHER INFORMATION CONTACT: Bureau of Land Management, 7450 Boston Boulevard, Springfield, Virginia 22153, Attn: Cadastral Survey, 703-440-1688.

Correction

In the Federal Register of August 24, 2005, in FR Doc. 05-16815 on page 49669, under SUPPLEMENTARY INFORMATION, and “The lands we surveyed are”, correct “Township 1, Range 6, East of the West line of the State” to read: “Township 1, Range 6, West of the East line of the State”.

Dated: September 28, 2005.
Stephen D. Douglas,
Chief Cadastral Surveyor.

[FR Doc. 05-19887 Filed 10-3-05; 8:45 am]

BILLING CODE 4310-GJ-P